DEPARTMENT OF HEALTH AND HUMAN SERVICES

Centers for Disease Control and Prevention

[60Day-18-18EW; Docket No. CDC-2018-0010]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project titled “Fatigued Driving among Oil and Gas Extraction workers: Risks and Interventions”—a study examining the determinants of fatigue among oil and gas well service operators, and the effectiveness of fatigue detection devices.

DATES: CDC must receive written comments on or before March 27, 2018.

ADDRESSES: You may submit comments, identified by Docket No. CDC-2018-0010 by any of the following methods:

• Federal eRulemaking Portal: Regulations.gov. Follow the instructions for submitting comments.

• Mail: Leroy A. Richardson, Information Collection Review Office, Centers for Disease Control and Prevention, 1600 Clifton Road, NE, MS-D74, Atlanta, Georgia 30329.

Instructions: All submissions received must include the agency name and Docket Number. CDC will post, without change, all relevant comments to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Fatigued Driving among Oil and Gas Extraction workers: Risks and Interventions—New—National Institute for Occupational Safety and Health (NIOSH), Centers for Disease Control and Prevention (CDC).

Background and Brief Description

The mission of the National Institute for Occupational Safety and Health (NIOSH) is to promote safety and health at work for all people through research and prevention. The Occupational Safety and Health Act of 1970, Public Law 9-596 (Section 20) [a][1] authorizes NIOSH to conduct research to advance the health and safety of workers.

Transportation incidents are the leading cause of death in the U.S. Oil & Gas extraction (OGE) industry, resulting in over 40% of all workplace fatalities. The motor vehicle fatality rate in this industry (7.6 fatalities/100,000 workers) was almost nine times that for all industries, and second only to that in the transportation, warehousing, and utilities industry (9.3 fatalities/100,000 workers) during 2003-2009. Nearly every worker in the OGE industry drives as part of their job.

Well sites are often in remote locations, requiring workers to drive on rural roads which may lack safety features such as lighting, guard rails, and adequate road grading. Workers travel long distances from their homes to work sites and between work sites, putting them at increased risk of fatigue and motor vehicle crashes. In addition, OGE work is physically demanding, repetitive, and often conducted in all weather conditions. Long hours and shiftwork are typical; 12-hour shifts for two or more consecutive weeks are common. While it is speculated that these factors (i.e., commuting practices, job tasks, time on task, working hours, consecutive shifts, seasonal effects) may increase the risk for fatigue and motor vehicle crashes, limited research has examined this among OGE workers.

NIOSH is seeking a one-year approval from OMB to conduct three surveys of U.S. land-based OGE workers who drive light-duty vehicles. The surveys will provide detailed information about determinants of fatigued driving and perceptions of fatigue monitoring devices among OGE workers, not available elsewhere. The study will take place among OGE field operations in collaboration with NIOSH industry partners who will provide access to their vehicles and data from trip records and accelerometers and allow installation of 2 fatigue-detection devices in their vehicles as intervention strategies.

Information gathered from this study will be used to identify evidence-based best practices in fatigue risk management, and highlight improvements that may be targeted to improve OGE worker safety. The surveys will be administered online or with hard copies to a sample of 45 workers. We estimate that 90% of workers (40) will complete the three surveys electronically and the others will opt to complete a hard copy version. The main questionnaire will take approximately 15 minutes to complete. The post-intervention survey will take approximately five minutes to complete, and the end of shift survey will take two minutes to complete.

The total estimated burden hours is 27. There are no costs to respondents other than their time.

Estimated Annualized Burden Hours
Type of respondent | Form name | Number of respondents | Number of responses per respondent | Average burden per response (in hours) | Total burden (in hours)
Oil and Gas Extraction Workers who drive light-duty trucks | Determinants of fatigued driving and perceptions of fatigue monitors (Tablet Version) | 40 | 1 | 15/60 | 10
Oil and Gas Extraction Workers who drive light-duty trucks | Determinants of fatigued driving and perceptions of fatigue monitors (Hardcopy) | 5 | 1 | 15/60 | 2
Oil and Gas Extraction Workers who drive light-duty trucks | End of shift survey (Tablet Version) | 40 | 6 | 2/60 | 8
Oil and Gas Extraction Workers who drive light-duty trucks | End of shift survey (Hardcopy) | 5 | 6 | 2/60 | 1
Oil and Gas Extraction Workers who drive light-duty trucks | Post-intervention survey (Tablet Version) | 40 | 1 | 5/60 | 5
Oil and Gas Extraction Workers who drive light-duty trucks | Post-intervention survey (Hardcopy) | 5 | 1 | 5/60 | 1
Oil and Gas Extraction Workers who drive light-duty trucks | Non-response survey | 1 | 1 | 3/60 | 1
Total |  |  |  |  | 27

Leroy A. Richardson,
Chief, Information Collection Review Office, Office of Scientific Integrity, Office of the Associate Director for Science, Office of the Director, Centers for Disease Control and Prevention.

[FR Doc. 2018-01380 Filed 1-25-18; 8:45 am]

BILLING CODE 4163-18-P